DEPARTMENT OF THE INTERIOR

[FBMS Charge Code L07770000.XG0000]

Field Office Relocation

AGENCY: Bureau of Land Management, Interior.

ACTION: Notice of Relocation and Name Change of the Bureau of Land Management's Folsom Office in Folsom, CA.

SUMMARY: Notice is hereby given that the Bureau of Land Management's (BLM) Folsom Field Office is moving from its current location at 63 Natoma St., Folsom, CA to a new building located at 5152 Hillsdale Circle, El Dorado Hills, CA 95762. The office name will be the Mother Lode Field Office effective with the move. The BLM will move the weeks of May 4 and 11 and resume full operations at the new office on Monday, May 18, 2009, at 7 a.m.

The BLM encourages the public to arrange any work with BLM before May 1. The new telephone number is: (916) 941-3101 and is scheduled to be on line by May 18.

Directions to the new BLM office: from Highway 50 eastbound, take the Latrobe Road exit. Go 2.4 miles and turn right on Investment Boulevard. Go 0.1 miles and turn right on Robert J. Matthews Parkway. Go 0.1 mile and turn left on Hillsdale Circle. The office is on the left in 0.2 mile. The new address is: Bureau of Land Management, Mother Lode Field Office, 5152 Hillsdale Circle, El Dorado Hills, CA 95762.

FOR FURTHER INFORMATION CONTACT: BLM Folsom Field Office at (916) 985-4474.

Dated: April 3, 2009.
William S. Haigh,
Field Office Manager.

[FR Doc. E9-10301 Filed 5-4-09; 8:45 am]

BILLING CODE P